DEPARTMENT OF COMMERCE

National Oceanic and Atmospheric Administration

50 CFR Part 635

[I.D. 051603C]

RIN 0648-AQ65

Atlantic Highly Migratory Species; Amendments to the Fishery Management Plan (FMP) for Atlantic Tunas, Swordfish, and Sharks and the FMP for Atlantic Billfish

AGENCY: National Marine Fisheries Service (NMFS), National Oceanic and Atmospheric Administration (NOAA), Commerce.

ACTION: Cancelling and changing the location and time of certain public hearings.

SUMMARY: Due to the damage caused by Hurricane Katrina, NMFS is cancelling two public hearings on the draft consolidated Highly Migratory Species (HMS) Fishery Management Plan (FMP) and proposed rule that were scheduled for September 6 and September 8, 2005, in Orange Beach, AL, and New Orleans, LA, respectively. NMFS intends to reschedule the September 6 Orange Beach and September 8 New Orleans public hearings at a later date. In addition, NMFS has changed the location and time of the public hearing that was scheduled to be held in Fort Lauderdale, FL, on October 3, 2005, at the African American Arts and Cultural Center Research Library. The draft consolidated HMS FMP and the proposed rule describe a range of management measures that could impact fishermen and dealers for all HMS fisheries.

DATES: The Fort Lauderdale public hearing will still be held on Monday, October 3, 2005. However, the new time will be from 7 - 10 p.m. The hearings scheduled for September 6 and September 8, 2005, in Orange Beach, AL, and New Orleans, LA, have been cancelled and will be rescheduled at a later date.

ADDRESSES: The new location of the Fort Lauderdale public hearing will be the Broward County Main Library, 100 South Andrews Avenue, Fort Lauderdale, FL 33301.

FOR FURTHER INFORMATION CONTACT: Heather Stirratt or Karyl Brewster-Geisz at (301) 713-2347.

SUPPLEMENTARY INFORMATION: The Atlantic HMS fisheries are managed under the dual authority of the Magnuson-Stevens Fishery Conservation and Management Act (Magnuson-Stevens Act) and the Atlantic Tunas Convention Act (ATCA). The FMP for Atlantic Tunas, Swordfish, and Sharks, finalized in 1999, and the FMP for Atlantic Billfish, finalized in 1988, are implemented by regulations at 50 CFR part 635.

On August 19, 2005 (70 FR 48804), NMFS published a proposed rule that, among other things, announced the availability of the draft consolidated HMS FMP. Included in this proposed rule was a list of 24 public hearings throughout September and October 2005. These hearings are scheduled for NMFS to receive comments from fishery participants and other members of the public regarding the proposed rule and draft HMS FMP. Due to the damage caused by Hurricane Katrina, NMFS is cancelling two public hearings that were scheduled for September 6 and September 8, 2005, in Orange Beach, AL, and New Orleans, LA, respectively. NMFS intends to reschedule the public hearings once the amount of damaged caused by Hurricane Katrina in the affected Gulf region has been assessed and the appropriate locations can be determined. NMFS may extend the comment period, if necessary, to ensure adequate opportunities for public comment by constituents in the affected Gulf region. Notification of the new dates and locations would be published in the Federal Register.

In addition, NMFS has changed the location and time of the public hearing that was scheduled to be held in Fort Lauderdale, FL, on October 3, 2005, at the African American Arts and Cultural Center Research Library (see DATES and ADDRESSES). This change was due to concerns raised by a constituent regarding public safety. NMFS verified these concerns with local law enforcement. The schedule for the other public hearings remains unchanged.

The public is reminded that NMFS expects participants at the public hearings to conduct themselves appropriately. At the beginning of each public hearing, a NMFS representative will explain the ground rules (e.g., alcohol is prohibited from the hearing room; attendees will be called to give their comments in the order in which they registered to speak; each attendee will have an equal amount of time to speak; and attendees should not interrupt one another). The NMFS representative will attempt to structure the hearing so that all attending members of the public will be able to comment, if they so choose, regardless of the controversial nature of the subject(s). Attendees are expected to respect the ground rules, and, if they do not, they will be asked to leave the hearing.

Special Accommodations

These meetings are physically accessible to people with disabilities. Requests for sign language interpretation or other auxiliary aids should be directed to Heather Stirratt, (301) 713-2347, at least 7 days prior to the hearing in question.

Authority: 5 U.S.C. 561 and 16 U.S.C. 1801 et seq.

Dated: September 1, 2005.
John H. Dunnigan,
Director, Office of Sustainable Fisheries, National Marine Fisheries Service.

[FR Doc. 05-17749 Filed 9-1-05; 4:03 pm]

BILLING CODE 3510-22-S